DEPARTMENT OF ENERGY

Federal Energy Regulatory Commission

[Docket No. EL01-57-000]

Reliant Energy Power Generation, Inc. and Reliant Energy Services, Inc., Complainants, v. California Independent System Operator Corporation, Respondent; Notice of Complaint

March 23, 2001.

Take notice that on March 21, 2001, Reliant Energy Power Generation, Inc. and Reliant Energy Services, Inc. (Reliant Energy) submitted a complaint against the California Independent System Operator Corporation (CAISO) alleging that the CAISO is abusing the emergency provisions of its Tariff, wrongfully preventing maintenance by Realiant Energy on its generating units, and that the CAISO's threatened exercise of export curtailment authority is unjust and unreasonable.

Reliant Energy alleges that the CAISO's actions violate the CAISO's Tariff, the Federal Power Act, the Commerce Clause, and the Commission's own policies and orders. Reliant energy further alleges that the CAISO's actions are causing injury to Reliant Energy, to other market participants in the West, and to energy consumers in the West, and are threatening the stability and reliability of the entire Western grid. Accordingly, Reliant Energy requests that the Commission issue an Order clarifying that the CAISO cannot use emergency powers under its Tariff to shift the economic burdens of California's economic policies to neighboring electricity systems, and to declaring unjust and unreasonable curtailment by the CAISO of firm exports to other control areas.

Copies of this filing were served upon the CAISO and other interested parties.

Any person desiring to be heard or to protest this filing should file a motion to intervene or protest with the Federal Energy Regulatory Commission, 888 First Street, NE., Washington, D.C. 20426, in accordance with Rules 211 and 214 of the Commission's Rules of Practice and Procedure (18 CFR 385.211 and 385.214). All such motions or protests must be filed on or before April 10, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222 for assistance). Answers to the complaint shall also be due on or before April 10, 2001. Comments, protests and interventions may be filed electronically via the Internet in lieu of paper. See 18 CFR 385.2001(a)(1)(iii) and the instructions on the Commission's web site at http://www.ferc.fed.us/efi/doorbell.htm.

Linwood A. Watson, Jr.,
Acting Secretary.

[FR Doc. 01-7719 Filed 3-28-01; 8:45 am]

BILLING CODE 6717-01-M